GENERAL SERVICES ADMINISTRATION

41 CFR Part 102-42

[FMR Change 2014-01; FMR Case 2014-102-1; Docket No. 2014-0006; Sequence No. 1]

RIN 3090-AJ43

Federal Management Regulation; Change in Consumer Price Index Minimal Value

AGENCY: Office of Governmentwide Policy, GSA.

ACTION: Final rule.

SUMMARY: The public law regarding the receipt and disposition of foreign gifts and decorations requires that at 3-year intervals following January 1, 1981, minimal value for foreign gifts be redefined in regulations prescribed by the Administrator of General Services, in consultation with the Secretary of State, to reflect changes in the Consumer Price Index for the immediately preceding 3-year period. The required consultation has been completed and the minimal value has been increased to mean $375 or less as of January 1, 2014.

DATES: Effective: April 2, 2014.

Applicability: This final rule applies to all foreign gifts received on or after January 1, 2014.

FOR FURTHER INFORMATION CONTACT: For clarification of content, contact Mr. Robert Holcombe, Director, Asset Management Policy Division (202-501-3828). For information pertaining to status or publication schedules, contact the U.S. General Services Administration, Regulatory Secretariat Division (MVCB), 1800 F Street NW., 2nd Floor, Washington, DC 20405-0001, 202-501-4755.

SUPPLEMENTARY INFORMATION: Beginning in 1984 the definition for “minimal value” for foreign gifts and decorations has been redefined through the rule making process based on public law and the change in consumer price index for the preceding three years. During the three years preceding 1996, the “minimal value” was defined as $225.00. Subsequently, the definition of “minimal value” has been redefined under the following Federal Property Management Regulation (FPMR) and Federal Management Regulation (FMR) amendments: FPMR Amendment H-193, dated November 26, 1996; FPMR Amendment H-202, dated March 22, 1999; FMR Amendment B-1, dated September 4, 2002; FMR Amendment 2005-1, FMR Case 2004-102-8, dated January 12, 2005; FMR Amendment 2008-03, FMR Case 2008-102-1, dated February 8, 2008; and, FMR Change 2011-01, FMR Case 2011-102-1, dated May 25, 2011. During that time frame the “minimal value” increased in 1996 from $245.00 to $350.00 in 2011. This current revision to the definition of “minimal value” will increase the value to $375.00.

A. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under Section 6(b) of E.O. 12866, Regulatory Planning and Review, dated September 30, 1993. This rule is not a major rule under 5 U.S.C. 804.

B. Regulatory Flexibility Act

This final rule will not have a significant economic impact on a substantial number of small entities within the meaning of the Regulatory Flexibility Act, 5 U.S.C. 601, et seq., because the revisions are not considered substantive. This final rule is also exempt from the Regulatory Flexibility Act per 5 U.S.C. 553 (a)(2) because it applies to agency management. However, this final rule is being published to provide transparency in the promulgation of Federal policies.

C. Paperwork Reduction Act

The Paperwork Reduction Act does not apply because the final rule does not impose information collection requirements that require the approval of the Office of Management and Budget under 44 U.S.C. 3501, et seq.

D. Small Business Reform Act

This final rule is exempt from Congressional review under 5 U.S.C. 801 since it does not substantially affect the rights or obligations of non-agency parties.

List of Subjects in 41 CFR Part 102-42

Conflict of interests, Decorations, medals, awards, Foreign relations, Government property, Government property management.

Dated: February 28, 2014.
Dan Tangherlini,
Administrator of General Services.

For the reasons set forth in the preamble, 41 CFR part 102-42 is amended as follows:

PART 102-42—UTILIZATION, DONATION, AND DISPOSAL OF FOREIGN GIFTS AND DECORATIONS

1. The authority citation for part 102-42 is revised to read as follows:

Authority: Sec. 205(c), 63 Stat. 390 (40 U.S.C. 486(c)); sec. 515, 91 Stat. 862 (5 U.S.C. 7342).

§ 102-42.10 [Amended]

2. Amend § 102-42.10, in the definition of “Minimal value”, by removing “$350” and adding “$375” in its place.

[FR Doc. 2014-07369 Filed 4-1-14; 8:45 am]

BILLING CODE 6820-14-P